SECURITIES AND EXCHANGE COMMISSION

[ File No. 500-1]

Order of Suspension of Trading; In The Matter of Crown Alliance Capital Limited

October 22, 2013.

It appears to the Securities and Exchange Commission that there is a lack of current and accurate information concerning the securities of Crown Alliance Capital Limited (“Crown Alliance”), quoted under the ticker symbol CACL, because of questions regarding the accuracy of assertions in Crown Alliance's public filings concerning the company's assets and shareholders and because of potentially manipulative conduct in the trading of Crown Alliance's shares.

The Commission is of the opinion that the public interest and the protection of investors require a suspension of trading in the securities of the above-listed company.

Therefore, it is ordered, pursuant to Section 12(k) of the Securities Exchange Act of 1934, that trading in the securities of the above-listed company is suspended for the period from 9:30 a.m. EDT on October 22, 2013 through 11:59 p.m. EST on November 4, 2013.

By the Commission.
Elizabeth M. Murphy,
Secretary.

[FR Doc. 2013-25144 Filed 10-22-13; 4:15 pm]

BILLING CODE 8011-01-P